DEPARTMENT OF AGRICULTURE

Animal and Plant Health Inspection Service

[Docket No. APHIS-2013-0056]

Wildlife Services Policy on Wildlife Damage Management in Urban Areas

AGENCY: Animal and Plant Health Inspection Service, USDA.

ACTION: Notice.

SUMMARY: We are advising the public that the Animal and Plant Health Inspection Service's Wildlife Services (APHIS-WS) program is making a policy decision on how to define “urban rodent control,” as referred to in the Act of December 22, 1987. This action is necessary to make it clearer when APHIS-WS may or may not conduct activities and enter into agreements in order to control nuisance rodent species or those rodent species that are reservoirs for zoonotic diseases.

FOR FURTHER INFORMATION CONTACT: Mr. William H. Clay, Deputy Administrator, Wildlife Services, APHIS, 1400 Independence Avenue SW., Washington, DC, 20250; 202-799-7095.

SUPPLEMENTARY INFORMATION:

Background

Wildlife is a publicly owned natural resource in the United States, and State and Federal wildlife agencies have an affirmative duty and responsibility to administer, protect, manage and conserve fish and wildlife. The mission of the Animal and Plant Health Inspection Service's Wildlife Services (APHIS-WS) program is to provide Federal leadership in managing problems caused by wildlife. This includes determining and implementing both research of and methods for controlling animal species that are injurious to agriculture, horticulture, forestry, animal husbandry, endangered and threatened species, other natural resources, property, and that create a risk to human health and safety. To this end, APHIS-WS cooperates with Federal agencies, State and local governments, and private individuals to research and implement the best methods of managing conflicts between wildlife and human health and safety, agriculture, property, and natural resources.

Under the Act of December 22, 1987 (7 U.S.C. 426c), APHIS-WS is authorized, except for urban rodent control, to conduct activities and enter into agreements to control nuisance bird and mammal species or those bird and mammal species that are reservoirs of zoonotic diseases. While the Act makes an exception for urban rodent control, it does not define the term. This has led to confusion about when APHIS-WS may provide wildlife damage control assistance and has created an overlap in services with private sector pest control companies in urban and suburban areas.

The term “rodent” refers to the group of mammals that includes rats, mice, chipmunks, squirrels, porcupines, and groundhogs, among other species. Therefore, to maximize Federal resources and reduce duplication of services, we are considering “urban rodent control,” for the purposes of activities authorized by the Act of December 22, 1987, to mean actions to directly control mice, rats, voles, squirrels, chipmunks, gophers, and woodchucks/groundhogs in a city or town with a population greater than 50,000 inhabitants, as well as the urbanized area contiguous and adjacent to such a city or town.

There are some categories of actions for which APHIS will continue to consider requests for operational assistance. Specifically, actions involving Federal agencies; government entities engaged in a cooperative service agreement with APHIS to provide direct control of rodents as of October 1, 2013; a State in which direct control of the rodent species has been expressly authorized by State law, rulemaking, or a local jurisdiction's ordinance promulgated by public notice and an opportunity for public comment or as otherwise promulgated as required and authorized by the respective State or local law; and railways and airport air sides areas are excluded from this definition. Otherwise, APHIS will refer all requests for operational assistance with urban rodent control from private entities such as home and business owners and associations to private sector pest control companies.

Done in Washington, DC, this 12th day of 2013.
Kevin Shea,
Administrator, Animal and Plant Health Inspection Service.

[FR Doc. 2013-19831 Filed 8-13-13; 8:45 am]

BILLING CODE 3410-34-P